DEPARTMENT OF COMMERCE

Foreign-Trade Zones Board

[Order No. 2074]

Production Authority Not Approved; Gildan Yarns, LLC; Foreign-Trade Zone 57; (Cotton and Cotton/Polyester Yarns); Salisbury, North Carolina

Pursuant to its authority under the Foreign-Trade Zones Act of June 18, 1934, as amended (19 U.S.C. 81a-81u), the Foreign-Trade Zones Board (the Board) adopts the following Order:

Whereas, the Foreign-Trade Zones (FTZ) Act provides for “. . . the establishment . . . of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Charlotte Regional Partnership, Inc., grantee of FTZ 57, has requested production authority on behalf of Gildan Yarns, LLC, for its facility located in Salisbury, North Carolina (B-43-2017, docketed June 16, 2017);

Whereas, notice inviting public comment has been given in the Federal Register (82 FR 28628-28629, June 23, 2017) and the application has been processed pursuant to the FTZ Act and the Board's regulations; and,

Whereas, the Board adopts the findings and recommendations of the examiner's report, and finds that the requirements of the FTZ Act and the Board's regulations have not been satisfied;

Now, therefore, the Board hereby does not approve the application requesting production authority under zone procedures within FTZ 57 at the facility of Gildan Yarns, LLC, located in Salisbury, North Carolina, as described in the application and Federal Register notice.

Dated: November 8, 2018.
Gary Taverman,
Deputy Assistant Secretary for Antidumping and Countervailing Duty Operations, performing the non-exclusive functions and duties of the Assistant Secretary for Enforcement and Compliance, Alternate Chairman, Foreign-Trade Zones Board.

[FR Doc. 2018-24934 Filed 11-14-18; 8:45 am]

BILLING CODE 3510-DS-P